DEPARTMENT OF TRANSPORTATION

Federal Aviation Administration

14 CFR Part 39

[Docket No. 2002-NM-220-AD; Amendment 39-12893; AD 2002-19-13]

RIN 2120-AA64

Airworthiness Directives; Certain Airplanes Originally Manufactured by Lockheed

AGENCY: Federal Aviation Administration, DOT.

ACTION: Final rule; request for comments.

SUMMARY: This amendment adopts a new airworthiness directive (AD) that is applicable to certain airplanes originally manufactured by Lockheed for the military as the P2V. This action requires, among other actions, repetitive dye penetrant and detailed inspections to detect cracks in certain areas located on the left- and right-side lower wing surface between the fuselage and inboard engine nacelle; repetitive detailed inspections of adjacent areas; and repair, if necessary. This action also requires operators to submit a report of the initial inspection findings. This action is necessary to detect and correct stress-related cracking on the left- and right-side lower wing surface between the fuselage and inboard engine nacelle, which could result in structural failure of the wings and consequent loss of control of the airplane. This action is intended to address the identified unsafe condition.

DATES: Effective October 1, 2002.

Comments for inclusion in the Rules Docket must be received on or before November 25, 2002.

ADDRESSES: Submit comments in triplicate to the Federal Aviation Administration (FAA), Transport Airplane Directorate, ANM-114, Attention: Rules Docket No. 2002-NM-220-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-iarcomment@faa.gov. Comments sent via fax or the Internet must contain “Docket No. 2002-NM-220-AD” in the subject line and need not be submitted in triplicate. Comments sent via the Internet as attached electronic files must be formatted in Microsoft Word 97 for Windows or ASCII text.

Information pertaining to this AD may be examined at the FAA, Transport Airplane Directorate, 1601 Lind Avenue, SW., Renton, Washington; or at the Denver Aircraft Certification Office (ACO), FAA, 26805 E. 68th Avenue, Room 214, Denver, Colorado.

FOR FURTHER INFORMATION CONTACT: Roger Caldwell, Aerospace Engineer, ANM-100D, FAA, Denver ACO, 26805 E. 68th Avenue, Room 214, Denver, Colorado, 80249-6361; telephone (303) 342-1086; fax (303) 342-1088.

SUPPLEMENTARY INFORMATION: The FAA has received reports of extensive cracking found on the left- and right-side lower wing surface between the fuselage and inboard engine nacelle on certain airplanes originally manufactured by Lockheed that, in some cases, are used for the special purpose of forest and wildlife conservation (fighting fires). The cracking generally started from the fuel tank inspection cutouts and access holes (panels 53, and 151 through 153 inclusive) in a chordwise direction. Such cracking may be caused by the age of the airplanes and high stresses that occur during fire-fighting missions. Such cracking, if not detected and corrected, could result in structural failure of the wings and consequent loss of control of the airplane.

FAA's Determination

We have determined that repetitive dye penetrant and detailed inspections of the left- and right-side lower wing surface between the fuselage and inboard engine nacelle, and repetitive detailed inspections of adjacent areas are necessary to ensure that cracks will be detected, and corrective action taken (before further flight), to preclude crack growth to a size that would create an unacceptable risk of structural failure.

Based on the reports of cracking, the required inspections focus on the lower wing surface area surrounding the access holes. The identified method of inspection is considered adequate to detect any cracking in those areas. Also, based on the reports of cracking, and considering the loading environment the affected airplanes may be subjected to in a fire-fighting mission, we have determined that an initial dye penetrant inspection should be performed within 5 days or 50 flight cycles after the effective date of this AD, depending on the repair configuration of the airplane, and that a detailed inspection should be performed within 5 days after the effective date of this AD.

We also have determined that operators need to submit a report of the initial inspection findings to us. The intent of these required inspection reports is to enable us to determine how widespread such cracking problems may be in the affected fleet. Based on the results of these reports, further corrective action may be warranted.

Explanation of the Requirements of the Rule

Since an unsafe condition has been identified that is likely to exist or develop on other airplanes originally manufactured by Lockheed of the same type design that, in some cases, are used for the special purposes of forest and wildlife conservation (fighting fires), this AD is being issued to detect and correct stress-related cracking on the left- and right-side lower wing surface between the fuselage and inboard engine nacelle, which could result in structural failure of the wings and consequent loss of control of the airplane. This AD requires repetitive dye penetrant and detailed inspections to detect cracks in certain areas located on the left- and right-side lower wing surface between the fuselage and inboard engine nacelle; repetitive detailed inspections of adjacent areas; and repair, if necessary. This AD also requires ensuring that the surfaces are thoroughly cleaned and dried before doing any dye penetrant inspection, and free of contaminants, paint, and other coatings that could prevent dye penetrant from entering discontinuities. This AD also requires that operators submit a report of the initial inspection findings to the FAA.

Interim Action

This is considered to be interim action until final action is identified, at which time we may consider further rulemaking.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2002-NM-220-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-19-13 Airplanes Originally Manufactured by Lockheed: Amendment 39-12893. Docket 2002-NM-220-AD.

Applicability: All of the following airplanes, certificated in any category:

Aero Union Corporation Model SP-2H (P2V-7) airplanes, Type Certificate Data Sheet (TCDS) No. A24NM, Revision 0;

Central Air Service, Inc., Model SP-2H (P2V-7) airplanes, TCDS No. A40CE, Revision 0;

Evergreen Air Center Model SP-2H (identified on TCDS as “2P-2H (P2V-7)”) airplanes, TCDS No. A1RM, Revision 2;

Hawkins and Powers Aviation, Inc., Model SP-2H (identified on TCDS as “HP-P2V-7”) airplanes, TCDS No. A34NM, Revision 0;

Minden Air Corporation Model SP-2H (P2V-7) airplanes, TCDS No. A36NM, Revision 2;

Neptune Aviation Service, Inc., Model SP-2H (P2V-7) airplanes, TCDS No. A15SW, Revision 1; and

U.S. Department of Agriculture Model SP-2E (P2V-5F) airplanes, TCDS No. A17EA, Revision 2.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (f) of this AD. The request should include an assessment of the effect of the modification, alteration, or repair on the unsafe condition addressed by this AD; and, if the unsafe condition has not been eliminated, the request should include specific proposed actions to address it.

Compliance: Required as indicated, unless accomplished previously.

To detect and correct stress-related cracking on the left- and right-side lower wing surface between the fuselage and inboard engine nacelle, which could result in structural failure of the wings and consequent loss of control of the airplane, accomplish the following:

Compliance Times for Inspections

(a) The inspection requirements of this AD must be done at the times listed in the following table:

Table—Compliance Times for Inspections
Airplanes | Initial compliance time | Repetitive interval | Required actions
For airplanes on which a repair has been done to correct cracking on the lower wing surface | Within 50 flight cycles after the effective date of this AD | Every 50 flight cycles | Actions specified in paragraph (b) of this AD.
For airplanes on which a repair has NOT been done to correct cracking on the lower wing surface | Within 5 days after the effective date of this AD | Every 50 flight cycles | Actions specified in paragraph (b) of this AD.
For all airplanes | Within 5 days after the effective date of this AD | Every 5 flight cycles | Action specified in paragraph (c) of this AD.

Dye Penetrant and Detailed Inspections

(b) Do the actions specified in paragraphs (b)(1) and (b)(2) of this AD.

(1) Do a dye penetrant inspection to detect cracks in the areas specified in paragraphs (b)(1)(i) and (b)(1)(ii) of this AD, located on the left- and right-side lower wing surface between the fuselage and inboard engine nacelle. Ensure that the surfaces are thoroughly cleaned and dried before doing any dye penetrant inspection, and free of contaminants, paint, and other coatings that could prevent dye penetrant from entering discontinuities. Further guidance on dye penetrant inspections is provided in Chapter 5, Section 5 of Advisory Circular (AC) 43.13-1B.

(i) On the external surface within 3 inches from the edge of all access holes.

(ii) On the internal surface or doubler within 1 inch from the edge of all access holes.

(2) Do a detailed inspection to detect cracks of the areas adjacent to those identified in paragraph (b)(1) of this AD.

Note 2: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(c) Do a detailed inspection to detect cracks of the surface around all access holes located on the left- and right-side external lower wing surface between the fuselage and the inboard engine nacelle, and adjacent areas.

Corrective Action

(d) If any crack is detected during any inspection required by paragraph (b) or (c) of this AD, before further flight, repair per a method approved by the Manager, Denver Aircraft Certification Office (ACO), FAA.

Reporting Requirement

(e) Submit a report of inspection findings (both positive and negative) to the Manager, Denver ACO, FAA, 26805 E. 68th Avenue, Room 214, Denver, Colorado 80249-6361; fax (303) 342-1088; at the applicable time specified in paragraph (e)(1) or (e)(2) of this AD. (The report must include the inspection results, a description of any discrepancy found (e.g., crack length and location) and any repair done on the lower wing surface if applicable, and airplane serial number.) Information collection requirements contained in this AD have been approved by the Office of Management and Budget (OMB) under the provisions of the Paperwork Reduction Act of 1980 (44 U.S.C. 3501 et seq.) and have been assigned OMB Control Number 2120-0056.

(1) For airplanes on which the initial inspections required by paragraphs (b)(1), (b)(2), and (c) of this AD are accomplished after the effective date of this AD: Submit the report within 10 days after performing those initial inspections.

(2) For airplanes on which the initial inspections required by paragraphs (b)(1), (b)(2), and (c) of this AD have been accomplished before the effective date of this AD: Submit the report within 10 days after the effective date of this AD.

Alternative Methods of Compliance

(f) An alternative method of compliance or adjustment of the compliance time that provides an acceptable level of safety may be used if approved by the Manager, Denver ACO, FAA. Operators shall submit their requests through an appropriate FAA Principal Maintenance Inspector, who may add comments and then send it to the Manager, Denver ACO.

Note 3: Information concerning the existence of approved alternative methods of compliance with this AD, if any, may be obtained from the Denver ACO.

Special Flight Permits

(g) Special flight permits may be issued in accordance with sections 21.197 and 21.199 of the Federal Aviation Regulations (14 CFR 21.197 and 21.199) to operate the airplane to a location where the requirements of this AD can be accomplished.

Effective Date

(h) This amendment becomes effective on October 1, 2002.

Issued in Renton, Washington, on September 20, 2002.
Vi L. Lipski,
Manager, Transport Airplane Directorate, Aircraft Certification Service.

[FR Doc. 02-24415 Filed 9-23-02; 12:24 pm]

BILLING CODE 4910-13-P